DEPARTMENT OF ENERGY

Federal Energy Regulatory Commission

[Project No. 12635-002]

Moriah Hydro Corporation; Notice of Intent To Prepare an Environmental Impact Statement

On February 13, 2015, Moriah Hydro Corporation filed an application for an original major license to construct and operate its proposed 240-megawatt Mineville Energy Storage Project No. 12635 (Mineville Project or project). The project would be located in a decommissioned subterranean mine complex ¹ in the town of Moriah, Essex County, New York. No federal lands would be occupied by the project works or located within the project boundary.

¹ The existing mine complex comprises the interconnected Old Bed Mine, Harmony Mine, and 21 Mine and pit.

In accordance with the National Environmental Policy Act and the Commission's regulations, Commission staff held public scoping meetings for the proposed Mineville Project on December 7, 2016, in Warrensburg, New York, and on December 8, 2016, in Port Henry, New York. Commission staff originally intended to prepare an Environmental Assessment (EA) to analyze project effects.² However, during preparation of the EA and review of the project record, staff has determined that the Mineville Project may constitute a major federal action significantly affecting the quality of the human environment. Therefore, staff now intends to prepare an Environmental Impact Statement (EIS) that addresses the licensing of the Mineville Project.

² See November 4, 2016, Notice of Scoping Meetings and Environmental Site Review and Soliciting Scoping Comments.

A draft EIS will be issued and circulated for review by all interested parties. All comments filed on the draft EIS will be analyzed by the staff and considered in the final EIS. The staff's conclusions and recommendations will be available for the Commission's consideration in reaching its final licensing decision.

The application will be processed according to the following schedule. Revisions to the schedule may be made as appropriate.

Milestone | Target date
Issue draft EIS | June 2019.
Draft EIS public meeting | July 2019.
Comments on draft EIS due | August 2019.
Commission issues final EIS | February 2020.

This notice informs all interested individuals, organizations, and agencies with environmental expertise and concerns, that: (1) The Commission staff has decided to prepare an EIS addressing the licensing of the Mineville Project; and (2) the prior scoping conducted on this project by Commission staff and comments filed with the Commission on the application will be taken into account in the EIS.

Any questions regarding this notice may be directed to Chris Millard (202) 502-8256 or christopher.millard@ferc.gov.

Dated: April 25, 2019.
Kimberly D. Bose,
Secretary.

[FR Doc. 2019-08791 Filed 4-30-19; 8:45 am]

BILLING CODE 6717-01-P